FEDERAL ACCOUNTING STANDARDS ADVISORY BOARD

Notice of Proposal to Defer the Effective Date of Reclassification of the Statement of Social Insurance

Board Action: Pursuant to the Federal Advisory Committee Act (Pub. L. No. 92-463), as amended, and the FASAB Rules of Procedure, as amended in October, 1999, notice is hereby given that the Federal Accounting Standards Advisory Board (FASAB) has issued a Proposal to Defer the Effective Date of Reclassification of the Statement of Social Insurance. The proposed standard would defer for one year the effective dates of Statement of Federal Financial Accounting Standards (SFFAS) 25, Reclassification of Stewardship Responsibilities and Eliminating the Current Services Assessment, as well as SFFAS 26, Presentation of Significant Assumptions for the Statement of Social Insurance: Amending SFFAS 25. The proposes is available on the FASAB home page http://www.fasb.gov/exposuredraft.htm. Copies can be obtained by contacting FASAB at (202) 512-7350. Respondents are encouraged to comment on any part of the proposal. Written comments are requested by August 20, 2004, and should be sent to: Wendy M. Comes, Executive Director, Federal Accounting Standards Advisory Board, 441 G Street, NW., Suite 6814, Mail Stop 6K17V, Washington, DC 20548.

FOR FURTHER INFORMATION CONTACT: Wendy Comes, Executive Director, 441 G Street, NW., Washington, DC 20548, or call (202) 512-7350.

Authority: Federal Advisory Committee Act, Pub. L. 92-463.

Dated: July 23, 2004.
Wendy M. Comes,
Executive Director.

[FR Doc. 04-17125 Filed 7-27-04; 8:45 am]

BILLING CODE 1610-01-M